DEPARTMENT OF COMMERCE

National Oceanic and Atmospheric Administration

[Docket No. 051017270-5339-02; I.D. 093005B]

Magnuson-Stevens Fishery Conservation and Management Act Provisions; Fisheries of the Northeastern United States; Atlantic Surfclam and Ocean Quahog Fishery; 2007 Fishing Quotas for Atlantic Surfclams and Ocean Quahogs

AGENCY: National Marine Fisheries Service (NMFS), National Oceanic and Atmospheric Administration (NOAA), Commerce.

ACTION: Notice.

SUMMARY: NMFS is announcing that the quotas for the Atlantic surfclam and ocean quahog fisheries for 2007 remain status quo. Regulations governing these fisheries require NMFS to notify the public of the allowable harvest levels for Atlantic surfclams and ocean quahogs from the Exclusive Economic Zone in the Federal Register if the previous year's quota specifications remain unchanged.

FOR FURTHER INFORMATION CONTACT: Tobey Curtis, Fishery Management Specialist, 978-281-9273.

SUPPLEMENTARY INFORMATION: The Fishery Management Plan for the Atlantic Surfclam and Ocean Quahog Fisheries (FMP) requires that NMFS issue notification in the Federal Register of the upcoming year's quota, even in cases where the quota remains unchanged from the previous year. At its June 2006 meeting, the Mid-Atlantic Fishery Management Council voted that no action be taken to change the quota specifications for Atlantic surfclams and ocean quahogs for the 2007 fishing year (January 1 through December 31, 2007), and recommended maintaining the 2005 and 2006 quota levels of 3.4 million bu (181 million L) for Atlantic surfclams, 5.333 million bu (284 million L) for ocean quahogs, and 100,000 Maine bu (3.524 million L) for Maine ocean quahogs, as announced in the Federal Register on December 28, 2005 (70 FR 76715).

Authority: 16 U.S.C. 1801 et seq.

Dated: November 15, 2006.
James P. Burgess,
Acting Director, Office of Sustainable Fisheries, National Marine Fisheries Service.

[FR Doc. E6-19586 Filed 11-17-06; 8:45 am]

BILLING CODE 3510-22-S